DEPARTMENT OF LABOR

Employment and Training Administration

[TA-W-38,622]

Mauston Tank, Inc., Mauston, WI; Notice of Termination of Investigation

Pursuant to Section 221 of the Trade Act of 1974, an investigation was initiated on February 5, 2001, in response to a petition filed by a company official on the same date on behalf of workers at Mauston Tank, Inc., Mauston, Wisconsin.

The company official submitting the petition has requested that the petition be withdrawn. Consequently, further investigation in this case would serve no purpose, and the investigation has been terminated.

Signed in Washington, DC this 20th day of April, 2001.
Linda G. Poole,
Certifying Officer, Division of Trade Adjustment Assistance.

[FR Doc. 01-11099 Filed 5-2-01; 8:45 am]

BILLING CODE 4510-30-M